DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama: Mobile (FEMA Docket No.: B-2182). | Unincorporated areas of Mobile County (21-04-4141P). | The Honorable Merceria L. Ludgood, President, Mobile County Commission, 205 Government Street, 10th Floor, South Tower, Mobile, AL 36644. | Mobile County Government Plaza, 205 Government Street, 6th Floor, South Tower, Mobile, AL 36644. | Feb. 22, 2022 | 015008
Colorado:
Denver (FEMA Docket No.: B-2182). | City and County of Denver (21-08-0108P). | The Honorable Michael B. Hancock, Mayor, City and County of Denver, 1437 North Bannock Street, Room 350, Denver, CO 80202. | Department of Public Works, 201 West Colfax Avenue, Denver, CO 80202. | Mar. 4, 2022 | 080046
El Paso (FEMA Docket No.: B-2188). | Unincorporated areas of El Paso County (21-08-0534P). | The Honorable Stan VanderWerf, Chairman, El Paso County Board of Commissioners, 200 South Cascade Avenue, Suite 100, Colorado Springs, CO 80903. | Pikes Peak Regional Development Center, 2880 International Circle, Colorado Springs, CO 80910. | Feb. 22, 2022 | 080059
Florida:
Collier (FEMA Docket No.: B-2182). | City of Marco Island (21-04-4961P). | Mr. Mike McNees, Manager, City of Marco Island, 50 Bald Eagle Drive, Marco Island, FL 34145. | Building Services Department, 50 Bald Eagle Drive, Marco Island, FL 34145. | Mar. 1, 2022 | 120426
Monroe (FEMA Docket No.: B-2182). | Village of Islamorada (21-04-4874P). | The Honorable Buddy Pinder, Mayor, Village of Islamorada, 86800 Overseas Highway, Islamorada, FL 33036. | Building Department, 86800 Overseas Highway, Islamorada, FL 33036. | Feb. 22, 2022 | 120424
Mississippi: DeSoto (FEMA Docket No.: B-2203). | Unincorporated areas of DeSoto County (20-04-2263P). | Ms. Vanessa Lynchard, DeSoto County Administrator, 365 Losher Street, Suite 300, Hernando, MS 38632. | DeSoto County Planning Department, 365 Losher Street, Suite 200, Hernando, MS 38632. | Feb. 25, 2022 | 280050
North Carolina:
Johnston (FEMA Docket No.: B-2214). | Unincorporated areas of Johnston County (20-04-5908P). | The Honorable Chad Stewart, Chairman, Johnston County Board of Commissioners, P.O. Box 1049, Smithfield, NC 27577. | Johnston County Planning Department, 309 East Market Street, Clayton, NC 27520. | Feb. 17, 2022 | 370138
Orange (FEMA Docket No.: B-2214). | Unincorporated areas of Orange County (21-04-0006P). | The Honorable Renee Price, Chair, Orange County Board of Commissioners, P.O. Box 1303, Hillsborough, NC 27278. | Orange County Planning Department, 131 West Margaret Lane, Hillsborough, NC 27278. | Feb. 10, 2022 | 370342
Pender (FEMA Docket No.: B-2214). | Town of Burgaw (20-04-3993P). | The Honorable Kenneth Cowan, Mayor, Town of Burgaw, 109 North Walker Street, Burgaw, NC 28425. | City Hall, 109 North Walker Street, Burgaw, NC 28425. | Feb. 11, 2022 | 370483
Union (FEMA Docket No.: B-2214). | Unincorporated areas of Union County (21-04-0276P). | The Honorable Richard Helms, Chairman, Union County Board of Commissioners, 500 North Main Street, Suite 918, Monroe, NC 28112. | Union County Planning Department, 500 North Main Street, Suite 70, Monroe, NC 28112. | Feb. 18, 2022 | 370234
South Carolina: Aiken (FEMA Docket No.: B-2188). | City of Aiken (21-04-3558P). | Mr. Stuart Bedenbaugh, Administrator, City of Aiken, 214 Park Avenue Southwest, Aiken, SC 29801. | Geographic Information Systems (GIS) Department, 245 Dupont Drive, Aiken, SC 29801. | Mar. 7, 2022 | 450003
Texas:
Brazos (FEMA Docket No.: B-2182). | City of Bryan (21-06-1877P). | The Honorable Andrew Nelson, Mayor, City of Bryan, P.O. Box 1000, Bryan, TX 77805. | City Hall, 300 South Texas Avenue, Bryan, TX 77803. | Feb. 22, 2022 | 480082
Collin (FEMA Docket No.: B-2178). | City of Lavon, (21-06-1485P). | The Honorable Vicki Sanson, Mayor, City of Lavon, P.O. Box 340, Lavon, TX 75166. | City Hall, 120 School Road, Lavon, TX 75166. | Feb. 22, 2022 | 481313
Collin (FEMA Docket No.: B-2182). | City of McKinney (21-06-1540P). | The Honorable George Fuller, Mayor, City of McKinney, P.O. Box 517, McKinney, TX 75070. | Engineering Department, 221 North Tennessee Street, McKinney, TX 75069. | Mar. 7, 2022 | 480135
Ellis (FEMA Docket No.: B-2182). | City of Pecan Hill (21-06-0676P). | The Honorable Don Schmerse, Mayor, City of Pecan Hill, 1094 South Lawrance Road, Pecan Hill, TX 75154. | City Hall, 1094 South Lawrance Road, Pecan Hill, TX 75154. | Feb. 25, 2022 | 481673
Ellis (FEMA Docket No.: B-2182). | City of Red Oak (21-06-0676P). | Mr. Todd Fuller, Manager, City of Red Oak, 200 Lakeview Parkway, Red Oak, TX 75154. | Development Services Department, 411 West Red Oak Road, Red Oak, TX 75154. | Feb. 25, 2022 | 481650
Ellis (FEMA Docket No.: B-2182). | Unincorporated areas of Ellis County (21-06-0676P). | The Honorable Todd Little, Ellis County Judge, 101 West Main Street, Waxahachie, TX 75165. | Ellis County Engineering Department, 109 South Jackson Street, Waxahachie, TX 75165. | Feb. 25, 2022 | 480798
Harris (FEMA Docket No.: B-2203). | Unincorporated areas of Harris County (21-06-0376P). | The Honorable Lina Hidalgo, Harris County Judge, 1001 Preston Street, Suite 911, Houston, TX 77002. | Harris County Permit Office, 10555 Northwest Freeway, Suite 120, Houston, TX 77092. | Mar. 7, 2022 | 480287
Montgomery (FEMA Docket No.: B-2188). | City of Conroe (21-06-1521P). | The Honorable Jody Czajkoski, Mayor, City of Conroe, 300 West Davis Street, Conroe, TX 77301. | City Hall, 700 Metcalf Street, Conroe, TX 77301. | Mar. 7, 2022 | 480484
Rockwall (FEMA Docket No.: B-2188). | City of Royse City (21-06-0684P). | The Honorable Clay Ellis, Mayor Pro Term, City of Royse City, P.O. Box 638, Royse City, TX 75189. | Engineering Department, 305 North Arch Street, Royse City, TX 75189. | Mar. 4, 2022 | 480548
Utah: Summit (FEMA Docket No.: B-2182). | City of Park City (21-08-0593P). | The Honorable Andy Beerman, Mayor, City of Park City, 445 Marsac Avenue, Park City, UT 84060. | City Hall, 445 Marsac Avenue, Park City, UT 84060. | Feb. 28, 2022 | 490139

[FR Doc. 2022-06843 Filed 3-30-22; 8:45 am]

BILLING CODE 9110-12-P